DEPARTMENT OF COMMERCE

National Oceanic and Atmospheric Administration

[I.D. 100101C]

Endangered Species; Permits

AGENCY: National Marine Fisheries Service (NMFS), National Oceanic and Atmospheric Administration (NOAA), Commerce.

ACTION: Issuance of permits #1325 and 1348.

SUMMARY: Notice is hereby given of the following actions regarding permits for takes of endangered and threatened species for the purposes of incidental take under the Endangered Species Act (ESA): NMFS has issued permit 1348 to Mr. Preston Pate, of the State of North Carolina- Department of Environment and Natural Resources (1348) and permit 1325 to Mr. Rich Carpenter, of the North Carolina Division of Marine Fisheries (1325).

ADDRESSES: The permits, applications and related documents are available for review in the indicated office, by appointment:

Endangered Species Division, F/PR3, 1315 East West Highway, Silver Spring, MD 20910 (phone: 301-713-1401, fax: 301-713-0376).

FOR FURTHER INFORMATION CONTACT: Terri Jordan, Silver Spring, MD (phone: 301-713-1401, fax: 301-713-0376, e-mail: Terri.Jordan@noaa.gov)

SUPPLEMENTARY INFORMATION:

Authority

Issuance of permits and permit modifications, as required by the Endangered Species Act of 1973 (16 U.S.C. 1531-1543) (ESA), is based on a finding that such permits/modifications: (1) are applied for in good faith; (2) would not operate to the disadvantage of the listed species which are the subject of the permits; and (3) are consistent with the purposes and policies set forth in section 2 of the ESA. Scientific research and/or enhancement permits are issued under Section 10(a)(1)(A) of the ESA. Authority to take listed species is subject to conditions set forth in the permits. Permits and modifications are issued in accordance with and are subject to the ESA and NMFS regulations governing listed fish and wildlife permits (50 CFR parts 222-226).

Species Covered in This Notice

The following species are covered in this notice:

Sea turtles

Threatened and endangered Green turtle (Chelonia mydas)

Endangered Hawksbill turtle (Eretmochelys imbricata)

Endangered Kemp's ridley turtle (Lepidochelys kempii)

Endangered Leatherback turtle (Dermochelys coriacea)

Threatened Loggerhead turtle (Caretta caretta)

Permits and Modified Permits Issued

Permit #1348

Notice was published on 08/15/2001 (66 FR 42845) that Mr. Preston Pate, of the State of North Carolina-Department of Environment and Natural Resources applied for an individual incidental take permit for the purpose of managing its large and small mesh (5 inches or greater stretched mesh) gillnet fishery in the Gillnet Restricted Area (GNRA), defined as the following areas in southeastern Pamlico Sound, North Carolina. Permit 1348 was issued on September 28, 2001, authorizing take of listed species. Permit 1348 expires December 16, 2001.

Permit #1325

Notice was published on (66 FR 32791) that Mr. Rich Carpenter, of the North Carolina Division of Marine Fisheries applied for an incidental take permit (1325). The North Carolina Division of Marine Fisheries (NCDMF) has requested an individual incidental take permit (ITP) to continue to manage the shrimp trawl fishery in a restricted area of North Carolina approximately 30 nautical miles (nm) long, from Rich Inlet (34°17.6′ N. latitude) and Brown's Inlet (34°35.7′ N latitude) to a distance of 1 nm seaward of the COLREGS line. NCMDF possessed an ITP for this activity covering actions from 1996-2000.

The high concentration of algae in this area in the warmer months of the year often clog the Turtle Excluder Devices (TEDs) required by Federal regulations and render the TEDs useless in releasing turtles. The applicant requests an ITP to be effective April 1 through November 30 of each year.

NCDMF must notify and reinitiate consultation with NMFS if takes directly attributable to TED exempt tows result in the an observed incidental capture of up to 10 loggerhead turtles and 2 turtles in any combination of green, Kemp's ridley, hawksbill or leatherback. Of these NMFS anticipates that 2 turtles in any combination of loggerhead, green, Kemp's ridley, hawksbill or leatherback may be killed dead. Permit 1325 was issued on August 17, 2001, authorizing take of listed species. Permit 1325 expires December 31, 2006.

Dated: October 1, 2001.
Barry Thom,
Acting Chief, Endangered Species Division, Office of Protected Resources, National Marine Fisheries Service.

[FR Doc. 01-25037 Filed 10-4-01; 8:45 am]

BILLING CODE 3510-22-S